DEPARTMENT OF TRANSPORTATION

Federal Aviation Administration

14 CFR Part 26

[Docket No. FAA-2004-18379; Amendment No. 26-0]

RIN 2120-AI31

Enhanced Airworthiness Program for Airplane Systems/Fuel Tank Safety (EAPAS/FTS); Technical Correction

AGENCY: Federal Aviation Administration (FAA), DOT.

ACTION: Final rule; technical correction.

SUMMARY: This final rule corrects a subpart heading in the Code of Federal Regulations. The heading was inadvertently misstated when the FAA published the rule in November 2007.

EFFECTIVE DATE: This final rule is effective August 15, 2008.

FOR FURTHER INFORMATION CONTACT: Annette K. Kovite, ANM-113, Standardization Branch, Federal Aviation Administration, 1601 Lind Avenue, SW., Renton, WA 98057, telephone: 425-227-1262, facsimile: 425-227-1320, e-mail: Annette.Kovite@faa.gov.

SUPPLEMENTARY INFORMATION:

Background

On November 8, 2007, the FAA published a final rule to establish part 26 in the Code of Federal Regulations (72 FR 63364). The heading for subpart B of that part contained the phrase “aging systems” instead of the intended “airplane systems.” This final rule corrects that error.

Justification for Immediate Adoption

Because this action corrects merely a typographical error, the FAA finds that notice and public comment under 5 U.S.C. 553(b) is unnecessary. For the same reason, the FAA finds that good cause exists under 5 U.S.C. 553(d) for making this rule effective upon publication.

List of Subjects in 14 CFR Part 26

Aircraft, Aviation safety, Continued airworthiness.

In consideration of the foregoing, the Federal Aviation Administration amends Chapter I of Title 14, Code of Federal Regulations part 26 as follows:

PART 26—CONTINUED AIRWORTHINESS AND SAFETY IMPROVEMENTS FOR TRANSPORT CATEGORY AIRPLANES

1. The authority citation for part 26 continues to read as follows:

Authority: 49 U.S.C. 106(g), 40113, 44701, 44702 and 44704.

Subpart B—Enhanced Airworthiness Program for Airplane Systems

2. The heading for subpart B is revised to read as set forth above.

Issued in Washington, DC, on August 11, 2008.
Pamela Hamilton-Powell,
Director, Office of Rulemaking, Aviation Safety.

[FR Doc. E8-18859 Filed 8-14-08; 8:45 am]

BILLING CODE 4910-13-P